AFRICAN DEVELOPMENT FOUNDATION

Public Quarterly Meeting of the Board of Directors

AGENCY: United States African Development Foundation.

ACTION: Notice of meeting.

SUMMARY: The U.S. African Development Foundation (USDAF) will hold its quarterly meeting of the Board of Directors to discuss the agency's programs and administration.

DATES: The meeting will be held on Thursday, December 12, 2013 at 2 p.m. and will last until 3:30 p.m. of the same day.

ADDRESSES: This meeting will be held via teleconference.

FOR FURTHER INFORMATION CONTACT: Rabayah Akhter, 202-233-8811.

Authority: Public Law 96-533 (22 U.S.C. 290h).

Dated: November 26, 2013.
Doris Mason Martin,
General Counsel.

[FR Doc. 2013-28986 Filed 12-3-13; 8:45 am]

BILLING CODE 6117-01-P